DEPARTMENT OF HOMELAND SECURITY

Federal Emergency Management Agency

[Docket ID: FEMA-2013-0009; OMB No. 1660-0100]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the admission applications and student stipend agreements for FEMA courses and programs that are delivered on-campus at the FEMA National Emergency Training Center (NETC) facility and throughout the Nation, in coordination with State and local training officials and local colleges and universities.

DATES: Comments must be submitted on or before June 3, 2013.

ADDRESSES: To avoid duplicate submissions to the docket, please use only one of the following means to submit comments:

(1) Online. Submit comments at www.regulations.gov under Docket ID FEMA-2010-XXXX. Follow the instructions for submitting comments.

(2) Mail. Submit written comments to Docket Manager, Office of Chief Counsel, DHS/FEMA, 500 C Street SW., Room 835, Washington, DC 20472-3100.

(3) Facsimile. Submit comments to (703) 483-2999.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jo Ann Boyd, Admissions Specialist, United States Fire Administration, 301-447-1451. You may contact the Records Management Division for copies of the proposed collection of information at facsimile number (202) 646-3347 or email address: FEMA-Information-Collections-Management@dhs.gov.

SUPPLEMENTARY INFORMATION: Section 7 of Public Law 93-498, Federal Fire Prevention and Control Act, as amended, established the National Fire Academy (NFA) to advance the professional development of fire service personnel and of other persons engaged in fire prevention and control activities. Section 611.f. of Subchapter VI of the Robert T. Stafford Disaster Relief and Emergency Assistance Act (Stafford Act), as amended 42 U.S.C. 5121-5207, authorizes the Director to conduct or arrange, by contract or otherwise, for the training programs for the instruction of emergency preparedness officials and other persons in the organization, operation, and techniques of emergency preparedness, and to conduct or operate schools or classes. The Administrator established the National Emergency Training Center (NETC), located in Emmitsburg, Maryland, which houses the NFA and the Emergency Management Institute (EMI). FEMA offers courses and programs that are delivered on-campus at the NETC facility and throughout the Nation in coordination with State and local training officials and local colleges and universities. To facilitate meeting these requirements, FEMA collects information necessary to apply and be accepted for courses and for the student stipend reimbursement program for these courses.

Collection of Information

Title: General Admissions Applications (Long and Short) and Stipend Forms.

Type of Information Collection: Revision of a currently approved collection.

Form Titles and Numbers: FEMA Form 119-25-1, General Admissions Application; FEMA Form 119-25-2, General Admissions Application Short Form; FEMA Form 119-25-5, National Fire Academy Executive Fire Officer Program Application; FEMA Form 119-25-3, Student Stipend Agreement; and FEMA Form 119-25-4, Student Stipend Agreement (Amendment).

Abstract: The National Fire Academy was established to advance the professional development of fire service personnel and other persons engaged in prevention and control activities. The Emergency Management Institute serves as the national focal point for the development and delivery of emergency management training to enhance the capabilities of State, local, and tribal government officials; volunteer organizations; FEMA's disaster workforce; other Federal agencies; and the public and private sectors to minimize the impact of disasters and emergencies on the American public.

Affected Public: Business and other for-profit; Not-for-profit institutions; Federal Government; and State, Local, or Tribal Government.

Number of Respondents: 113,100.

Number of Responses: 112,800.

Estimated Total Annual Burden Hours: 12,900.

Estimated Cost: There are no recordkeeping, capital, start-up or maintenance costs associated with this information collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 28, 2013.
Charlene D. Myrthil,
Director, Records Management Division, Mission Support Bureau, Federal Emergency Management Agency, Department of Homeland Security.

[FR Doc. 2013-07808 Filed 4-3-13; 8:45 am]

BILLING CODE 9111-72-P